FEDERAL COMMUNICATIONS COMMISSION

Public Safety and Homeland Security Bureau; Federal Advisory Committee Act; Communications Security, Reliability, and Interoperability Council Meeting

AGENCY: Federal Communications Commission.

ACTION: Notice of public meeting.

SUMMARY: In accordance with the Federal Advisory Committee Act, this notice advises interested persons that the FCC Communications Security, Reliability, and Interoperability Council will hold its fourth meeting on December 13, 2010, at 9 a.m. in the Commission Meeting Room of the Federal Communications Commission.

DATES: December 13, 2010.

ADDRESSES: Federal Communications Commission, Room TW-C305 (Commission Meeting Room), 445 12th Street, SW., Washington, DC 20554.

FOR FURTHER INFORMATION CONTACT: Jeffery Goldthorp, Designated Federal Officer of the FCC's CSRIC, (202) 418-1096 (voice) or jeffery.goldthorp@fcc.gov (e-mail); or Lauren Kravetz, Deputy Designated Federal Officer of the FCC's CSRIC, 202-418-7944 (voice) or lauren.kravetz@fcc.gov (e-mail).

SUPPLEMENTARY INFORMATION: The notice of this meeting was first published in the Federal Register on November 30, 2010, only 14 days in advance of the meeting. While the publication did not meet the 15-day requirement for advance publication, exceptional circumstances warrant proceeding with the meeting on December 13, 2010. CSRIC members were informed of the December 13th meeting at the October public meeting of the Council and have been informed informally of the December meeting date on more than one occasion since then. A significant number of Council members have made business and travel plans in accordance with this schedule, and there is no date within one month of the planned date that will accommodate Council members' schedules. Delaying the meeting will also cause undue financial burdens on many of the members who have made travel arrangements.

In addition, it is not possible at this time to schedule a half-day meeting in the FCC's Commission Meeting Room for any date within one month of December 13, 2010. As the Council's meeting planned for March 2011 is scheduled to be the final meeting of the CSRIC before expiration of the CSRIC charter on March 18, 2011, delaying the meeting scheduled for December 13, 2010 threatens the Council's ability to complete its work. As a significant amount of the Council's work focuses on public safety issues, it is critical that the December 13, 2010 meeting proceed as planned so as not to delay implementation of solutions and best practices for public safety communications and cybersecurity. Recognizing the one-day delay in Federal Register publication, the agency issued a Public Notice of this meeting on November 29, 2010 to mitigate the late Federal Register publication and as an additional way of advising the public of this meeting and their right to attend. As the December 13, 2010 meeting date was announced at the October public meeting of the Council, the meeting has now been broadly announced to the public more than once. The November 30, 2010, Federal Register notice is available at http://frwebgate3.access.gpo.gov/cgi-bin/PDFgate.cgi?WAISdocID=66VJ7e/2/2/0&WAISaction=retrieve.

The FCC Public Notice announcing the meeting is available at http://www.fcc.gov/Daily_Releases/Daily_Business/2010/db1129/DA-10-2170A1.pdf.

Additional information regarding the CSRIC can be found at: http://www.fcc.gov/pshs/advisory/csric/.

Federal Communications Commission.
Timothy A. Peterson,
Chief of Staff, Public Safety and Homeland Security Bureau.

[FR Doc. 2010-30858 Filed 12-7-10; 8:45 am]

BILLING CODE 6712-01-P